DEPARTMENT OF HOMELAND SECURITY

Federal Emergency Management Agency

[Docket ID FEMA-2025-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: David N. Bascom, Acting Director, Engineering and Modeling Division, National Flood Insurance Program, Resilience, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Assistant Administrator for the Federal Insurance Directorate, Resilience, has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The current effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Elizabeth Asche,
Assistant Administrator, Federal Insurance Directorate, Resilience Federal Emergency Management Agency, Department of Homeland Security.

State and county | Location and case No. | Chief executive officer of community | Community map repository | Date of modification | Community No.
Delaware:
New Castle (FEMA Docket No.: B-2546). | Unincorporated areas of New Castle County (25-03-0058P). | Marcus Henry, New Castle County Executive, 87 Reads Way, New Castle, DE 19720. | New Castle County Government Center, 87 Reads Way, New Castle, DE 19720. | Oct. 9, 2025 | 105085
New Castle (FEMA Docket No.: B-2546). | Unincorporated areas of New Castle County (25-03-0638P). | Marcus Henry, New Castle County Executive, 87 Reads Way, New Castle, DE 19720. | New Castle County Government Center, 87 Reads Way, New Castle, DE 19720. | Oct. 23, 2025 | 105085
Florida:
Bay (FEMA Docket No.: B-2538). | Unincorporated areas of Bay County (24-04-2496P). | Robert Majka, Bay County Manager, 840 West 11th Street, Panama City, FL 32401. | Bay County Planning and Zoning Department, 840 West 11th Street, Panama City, FL 32401. | Sep. 29, 2025 | 120004
Brevard (FEMA Docket No.: B-2538). | City of Titusville (24-04-2838P). | Thomas Abbate, Interim Manager, City of Titusville, 555 South Washington Avenue, Titusville, FL 32796. | City Hall, 555 South Washington Avenue, Titusville, FL 32796. | Oct. 20, 2025 | 125152
Brevard (FEMA Docket No.: B-2538). | Unincorporated areas of Brevard County (25-04-0013P). | Jim Liesenfelt, Interim County Manager, Brevard County, 2725 Judge Fran Jamieson Way, Viera, FL 32940. | Brevard County Government Center, 2725 Judge Fran Jamieson Way, Viera, FL 32940. | Oct. 22, 2025 | 125152
Clay (FEMA Docket No.: B-2546). | Unincorporated areas of Clay County (25-04-0748P). | Betsy Condon, Chair, Clay County Board of Commissioners, P.O. Box 1366, Green Cove Springs, FL 32043. | Clay County Administration Building, 477 Houston Street, Green Cove Springs, FL 32043. | Oct. 10, 2025 | 120064
Duval (FEMA Docket No.: B-2542). | City of Jacksonville (24-04-7837P). | The Honorable Donna Deegan, Mayor, City of Jacksonville, 117 West Duval Street, Suite 400, Jacksonville, FL 32202. | City Hall, 117 West Duval Street, Suite 400, Jacksonville, FL 32202. | Oct. 3, 2025 | 120077
Indian River (FEMA Docket No.: B-2542). | Unincorporated areas of Indian River County (25-04-0747P). | Joseph Flescher, Chair, Indian River County Board of Commissioners, 1801 27th Street, Vero Beach, FL 32960. | Indian River County Administration Building, 1801 27th Street, Vero Beach, FL 32960. | Oct. 14, 2025 | 120119
Monroe (FEMA Docket No.: B-2542). | Unincorporated areas of Monroe County (25-04-3449P). | The Honorable Jim Scholl, Mayor, Monroe County Board of Commissioners, 530 Whitehead Street, Key West, FL 33040. | Monroe County Building Department, 2798 Overseas Highway, Suite 300, Marathon, FL 33050. | Oct. 10, 2025 | 125129
Orange (FEMA Docket No.: B-2542). | Unincorporated areas of Orange County (25-04-0014P). | The Honorable Jerry L. Demings, Mayor, Orange County, 201 South Rosalind Avenue, 5th Floor, Orlando, FL 32801. | Orange County Public Works Department, Stormwater Management Division, 4200 South John Young Parkway, Orlando, FL 32839. | Oct. 1, 2025 | 120179
Palm Beach (FEMA Docket No.: B-2542). | Unincorporated areas of Palm Beach County (24-04-7661P). | Verdenia C. Baker, Palm Beach County Administrator, 301 North Olive Avenue, Suite 1101, West Palm Beach, FL 33401. | Palm Beach County Vista Center, Building Division, 2300 North Jog Road, West Palm Beach, FL 33411. | Sep. 29, 2025 | 120192
Pasco (FEMA Docket No.: B-2546). | Unincorporated areas of Pasco County (25-04-1573P). | Mike Carballa, Pasco County Administrator, 8731 Citizens Drive, New Port Richey, FL 34654. | Pasco County Government Center, 8731 Citizens Drive, New Port Richey, FL 34654. | Oct. 16, 2025 | 120230
St. Johns (FEMA Docket No.: B-2546). | Unincorporated areas of St. Johns County (24-04-2427P). | Joy Andrews Administrator, St. Johns County, 500 San Sebastian View, St. Augustine FL 32084. | St. Johns County Building Department, 500 San Sebastian View St. Augustine FL 32084. | Oct. 17, 2025 | 125147
St. Johns (FEMA Docket No.: B-2542). | Unincorporated areas of St. Johns County (24-04-7933P). | Junyao “Joy” Andrews, St. Johns County Administrator, 500 San Sebastian View, St. Augustine, FL 32084. | St. Johns County Administration Building, 500 San Sebastian View, St. Augustine, FL 32084. | Oct. 8, 2025 | 125147
Volusia (FEMA Docket No.: B-2538). | City of Daytona Beach (24-04-6429P). | The Honorable Derrick Henry, Mayor, City of Daytona Beach, 301 South Ridgewood Avenue, Daytona Beach, FL 32114. | City Hall, 301 South Ridgewood Avenue, Daytona Beach, FL 32114. | Sep. 29, 2025 | 125099
Georgia:
DeKalb (FEMA Docket No.: B-2538). | City of Doraville (24-04-6430P). | The Honorable Joseph Geierman, Mayor, City of Doraville, 3725 Park Avenue, Doraville, GA 30340. | City Hall, 3725 Park Avenue, Doraville, GA 30340. | Sep. 26, 2025 | 130069
DeKalb (FEMA Docket No.: B-2538). | City of Dunwoody (24-04-6430P). | The Honorable Lynn Deutsch, Mayor, City of Dunwoody, 4800 Ashford Dunwoody Road, Dunwoody, GA 30338. | City Hall, 4800 Ashford Dunwoody Road, Dunwoody, GA 30338. | Sep. 26, 2025 | 130679
Effingham (FEMA Docket No.: B-2542). | Unincorporated areas of Effingham County (24-04-3325P). | Tim Callanan, Manager, Effingham County, 804 South Laurel Street, Springfield, GA 31329. | Effingham County Administrative Complex, 804 South Laurel Street, Springfield, GA 31329. | Oct. 2, 2025 | 130076
Massachusetts: Plymouth (FEMA Docket No.: B-2546). | Town of Mattapoisett (25-01-0680P). | Michael Lorenco, Administrator, Town of Mattapoisett, 16 Main Street, 1st Floor, Mattapoisett, MA 02739. | Building Department, 16 Main Street, 2nd Floor, Mattapoisett, MA 02739. | Oct. 24, 2025 | 255214
Michigan:
Wayne (FEMA Docket No.: B-2546). | City of Taylor (24-05-2505P). | The Honorable Timothy O. Woolley, Mayor, City of Taylor, 23555 Goddard Road, Taylor MI, 48180. | Public Works Department, 25605 Northline Road, Taylor, MI 48180. | Sep. 29, 2025 | 260728
Wayne (FEMA Docket No.: B-2546). | Township of Canton (24-05-1607P). | Anne Marie Graham-Hudak, Supervisor, Township of Canton, 1150 South Canton Center Road, Canton, MI 48188. | Municipal Complex, 1150 South Canton Center Road, Canton, MI 48188. | Sep. 24, 2025 | 260219
Nebraska: Arthur (FEMA Docket No.: B-2538). | Village of Arthur (24-07-0626P). | Laura Cooney, Chair, Village of Arthur, P.O. Box 232, Arthur, NE 69121. | West Central Nebraska Development District, 333 East 2nd Street, Ogallala, NE 69153. | Oct. 23, 2025 | 310006
New York:
Delaware (FEMA Docket No.: B-2546). | Town of Hancock (24-02-0239P). | Jerry Vernold, Supervisor, Town of Hancock, 661 West Main Street, Hancock, NY 13783. | Town Hall, 661 West Main Street, Hancock, NY 13783. | Oct. 14, 2025 | 360201
Niagara (FEMA Docket No.: B-2538). | City of Niagara Falls (23-02-0348P). | The Honorable Robert Restaino, Mayor, City of Niagara Falls, 745 Main Street, Niagara Falls, NY 14301. | City Hall, 745 Main Street, Niagara Falls, NY 14301. | Nov. 7, 2025 | 360506
Sullivan (FEMA Docket No.: B-2527). | Town of Rockland (25-02-0094P). | Robert Eggleton, Supervisor, Town of Rockland, 95 Main Street, Livingston Manor, NY 12758. | Town Hall, 95 Main Street, Livingston Manor, NY 12758. | Sep. 30, 2025 | 360829
Oklahoma:
Tulsa (FEMA Docket No.: B-2538). | City of Bixby (25-06-0126P). | Joey Wiedel, Manager, City of Bixby, P.O. Box 70, Bixby, OK 74008. | City Hall, 116 West Needles Avenue, Bixby, OK 74008. | Sep. 29, 2025 | 400207
Tulsa (FEMA Docket No.: B-2538). | City of Tulsa (25-06-0126P). | The Honorable Monroe Nichols IV, Mayor, City of Tulsa, 175 East 2nd Street, Suite 690, Tulsa, OK 74103. | City Hall, 175 East 2nd Street, Suite 690, Tulsa, OK 74103. | Sep. 29, 2025 | 405381
Tulsa (FEMA Docket No.: B-2538). | Unincorporated areas of Tulsa County (25-06-0126P). | The Honorable Lonnie Sims, Chair, Tulsa County Board of Commissioners, 218 West 6th Street, Tulsa, OK 74119. | Tulsa County Headquarters, 218 West 6th Street, Tulsa, OK 74119. | Sep. 29, 2025 | 400462
South Carolina:
Berkeley (FEMA Docket No.: B-2546). | Unincorporated areas of Berkeley County (24-04-2613P). | Johnny Cribb, Berkeley County Supervisor, 1003 North Highway 52, Moncks Corner, SC 29461. | Berkeley County Planning and Zoning Department, 1003 North Highway 52, Moncks Corner, SC 29461. | Oct. 2, 2025 | 450029
Greenville (FEMA Docket No.: B-2546). | City of Greenville (24-04-6984P). | The Honorable Knox White, Mayor, City of Greenville, P.O. Box 2207, Greenville, SC 29602. | Engineering Department, 204 Halton Road, 4th Floor, Greenville, SC 29607. | Oct. 23, 2025 | 450091
York (FEMA Docket No.: B-2546). | Town of Fort Mill (25-04-2189P). | The Honorable Guynn Savage, Mayor, Town of Fort Mill, 200 Tom Hall Street, Fort Mill, SC 29715. | Utilities Department, 131 East Elliott Street, Fort Mill, SC 29715. | Sep. 29, 2025 | 450195
York (FEMA Docket No.: B-2546). | Unincorporated areas of York County (25-04-2189P). | Christi Cox, Chair, York County Council, P.O. Box 66, York, SC 29745. | York County Planning and Development Services Department, 18 West Liberty Street, York, SC 29745. | Sep. 29, 2025 | 450193
Tennessee:
Maury (FEMA Docket No.: B-2546). | City of Spring Hill (24-04-3037P). | The Honorable Jim Hagaman, Mayor, City of Spring Hill, 199 Town Center Parkway, Spring Hill, TN 37174. | City Hall, 199 Town Center Parkway, Spring Hill, TN 37174. | Oct. 6, 2025 | 470278
Maury (FEMA Docket No.: B-2546). | Unincorporated areas of Maury County (24-04-3037P). | The Honorable Sheila K. Butt, Mayor, Maury County, 41 Public Square, Columbia, TN 38401. | Maury County Building and Zoning Department, 5 Public Square, Columbia, TN 38401. | Oct. 6, 2025 | 470123
Texas:
Collin (FEMA Docket No.: B-2538). | City of Allen (25-06-0050P). | The Honorable Baine Brooks, Mayor, City of Allen, 305 Century Parkway, Allen, TX 75013. | City Hall, 305 Century Parkway, Allen, TX 75013. | Sep. 22, 2025 | 480131
Collin (FEMA Docket No.: B-2546). | City of McKinney (24-06-1514P). | The Honorable George Fuller, Mayor, City of McKinney, P.O. Box 517, McKinney, TX 75069. | Engineering Department, 222 North Tennessee Street, McKinney, TX 75069. | Oct. 14, 2025 | 480135
Collin (FEMA Docket No.: B-2546). | City of McKinney (24-06-2453P). | The Honorable George Fuller, Mayor, City of McKinney, P.O. Box 517, McKinney, TX 75069. | Engineering Department, 222 North Tennessee Street, McKinney, TX 75069. | Oct. 20, 2025 | 480135
Guadalupe (FEMA Docket No.: B-2542). | City of Seguin (24-06-1142P). | The Honorable Donna Dodgen, Mayor, City of Seguin, 205 North River Street, Seguin, TX 78155. | City Hall, 205 North River Street, Seguin, TX 78155. | Sep. 29, 2025 | 485508
Guadalupe (FEMA Docket No.: B-2542). | Unincorporated areas of Guadalupe County (24-06-1142P). | The Honorable Kyle Kutscher, Guadalupe County Judge, 101 East Court Street, Seguin, TX 78155. | Guadalupe County Courthouse, 101 East Court Street, Seguin, TX 78155. | Sep. 29, 2025 | 480266
Hays (FEMA Docket No.: B-2542). | Unincorporated areas of Hays County (24-06-1529P). | The Honorable Ruben Becerra, Hays County Judge, 111 East San Antonio Street, Suite 300, San Marcos, TX 78666 | Hays County Development Services Department, 2171 Yarrington Road, Suite 100, Kyle, TX 78640. | Oct. 2, 2025 | 480321
Kendall (FEMA Docket No.: B-2542). | Unincorporated areas of Kendall County (24-06-0477P). | The Honorable Shane Stolarczy, Kendall County Judge, 201 East San Antonio Avenue, Suite 122, Boerne, TX 78006. | Kendall County Courthouse, 201 East San Antonio Avenue, Suite 101, Boerne, TX 78006. | Sep. 29, 2025 | 480417
Rockwall (FEMA Docket No.: B-2542). | City of Fate (24-06-1645P). | The Honorable David Billings, Mayor, City of Fate, 1900 C.D. Boren Parkway, Fate, TX 75087. | City Hall, 1900 C.D. Boren Parkway, Fate, TX 75087. | Oct. 10, 2025 | 480544
Tarrant (FEMA Docket No.: B-2538). | City of Fort Worth (24-06-2590P). | The Honorable Mattie Parker, Mayor, City of Fort Worth, 100 Fort Worth Trail, Fort Worth, TX 76102. | Department of Transportation and Public Works—Stormwater Management Division, 100 Fort Worth Trail, Fort Worth, TX 76102. | Sep. 29, 2025 | 480596
Virginia:
Independent City (FEMA Docket No.: B-2542). | City of Fairfax (24-03-0442P). | The Honorable Catherine S. Read, Mayor, City of Fairfax, 10455 Armstrong Street, Room 316, Fairfax, VA 22030. | Department of Public Works, 10455 Armstrong Street, Fairfax, VA 22030. | Sep. 26, 2025 | 515524
Loudoun (FEMA Docket No.: B-2546). | Town of Leesburg (24-03-0774P). | Kaj Dentler, Manager, Town of Leesburg, 25 West Market Street, Leesburg, VA 20176. | Department of Community Development, 222 Catoctin Circle Southeast, Suite 200, Leesburg, VA 20175. | Oct. 6, 2025 | 510091
Prince William (FEMA Docket No.: B-2538) (FEMA Docket No.: B-2546). | Unincorporated areas of Prince William County (24-03-0850P). | Deshundra Jefferson, Chair at-Large, Prince William County Board of Supervisors, 1 County Complex Court, Prince William, VA 22192. | Prince William County Department of Public Works; Environmental Management Division, 5 County Complex Court, Suite 170, Prince William, VA 22192. | Sep. 26, 2025 | 510119
Wisconsin: Waukesha (FEMA Docket No.: B-2546). | Village of Sussex (24-05-2427P). | The Honorable Anthony J. LeDonne, President, Village of Sussex, N64 W23760 Main Street, Sussex, WI 53089. | Civic Center, N64 W23760 Main Street, Sussex, WI 53089. | Oct. 20, 2025 | 550490

[FR Doc. 2025-23168 Filed 12-17-25; 8:45 am]

BILLING CODE 9110-12-P